ENVIRONMENTAL PROTECTION AGENCY

40 CFR Part 81

[CA 109-RECLAS; FRL-7800-5]

Finding of Failure to Attain and Reclassification to Serious Nonattainment; Imperial Valley Planning Area; California; Particulate Matter of 10 Microns or Less

Correction

In rule document 04-18378 beginning on page 48792 in the issue of Wednesday, August 11, 2004, make the following correction:

§ 81.305 [Corrected]

On page 48794, in § 81.305, in the table, under the heading “Classification”, under the subheading “Date”, “9/8/04” should read “9/10/04”.

[FR Doc. C4-18378 Filed 8-19-04; 8:45 am]

BILLING CODE 1505-01-D

DEPARTMENT OF TRANSPORTATION

Federal Aviation Administration

14 CFR Part 39

[Docket No. FAA-2004-18032; Directorate Identifier 2004-CE-15-AD; Amendment 39-13721; AD 2004-14-12]

RIN 2120-AA64

Airworthiness Directives; The New Piper Aircraft, Inc., Models PA-28-161, PA-28-181, PA-28R-201, PA-32R-301 (HP), PA-32R-301T, PA-32-301FT, PA-32-301XTC, PA-34-220T, PA-44-180, PA-46-350P, and PA-46-500TP Airplanes

Correction

In rules document 04-15507 beginning on page 41407 in the issue of Friday, July 9, 2004, make the following corrections:

§39.13 [Corrected]

1. On page 41409, in §30.13, under the heading What Must I Do to Address This Problem?, in paragraph (e), in the table, in the first column, in paragraph (i), in the fourth line, the word “crew” should read, “screw”.

2. On the same page, in the same section, in the same table, in the third column, in the first entry, in the second line, “Service Bulletin No. 1139” should read, “Service Bulletin No. 1139A”.

[FR Doc. C4-15507 Filed 8-19-04; 8:45 am]

BILLING CODE 1505-01-D